DEPARTMENT OF VETERANS AFFAIRS

[OMB Control No. 2900-0775]

Proposed Information Collection (Patient Satisfaction Survey Michael E. DeBakey Home Care Program) Activity: Comment Request

AGENCY: Veterans Health Administration, Department of Veterans Affairs

ACTION: Notice.

SUMMARY: In compliance with the Paperwork Reduction Act (PRA) of 1995 (44 U.S.C. 3501-3521), this notice announces that the Veterans Health Administration, Department of Veterans Affairs, will submit the collection of information abstracted below to the Office of Management and Budget (OMB) for review and comment. The PRA submission describes the nature of the information collection and its expected cost and burden; it includes the actual data collection instrument.

DATES: Comments must be submitted on or before March 4, 2013.

ADDRESSES: Submit written comments on the collection of information through www.Regulations.gov; or to VA's OMB Desk Officer, OMB Human Resources and Housing Branch, New Executive Office Building, Room 10235, Washington, DC 20503 (202) 395-7316. Please refer to “OMB Control No. 2900-0775” in any correspondence.

FOR FURTHER INFORMATION CONTACT: Crystal Rennie, Enterprise Records Service (005R1B), Department of Veterans Affairs, 810 Vermont Avenue NW., Washington, DC 20420, (202)632-7492, FAX (202) 632-7583 or email crystal.rennie@va.gov. Please refer to “OMB Control No. 2900-0775.”

SUPPLEMENTARY INFORMATION: Title: Patient Satisfaction Survey Michael E. DeBakey Home Care Program, VA Form 10-0476.

OMB Control Number: 2900-0775.

Type of Review: Extension of a currently approved collection.

Abstract: VA Form 10-0476 will be used to gather feedback from patients regarding their satisfaction with the quality of services/care provided by home care program staff.

An agency may not conduct or sponsor, and a person is not required to respond to a collection of information unless it displays a currently valid OMB control number. The Federal Register Notice with a 60-day comment period soliciting comments on this collection of information was published on November 19, 2012, at page 69550.

Estimated Annual Burden: 17 hours.

Estimated Average Burden per Respondent: 10 minutes.

Frequency of Response: On occasion.

Estimated Number of Respondents: 50.

Estimated Number of Responses: 100.

Dated: January 25, 2013.
By direction of the Secretary.
William F. Russo,
Deputy Director, Office of Regulations Policy and Management, Office of General Counsel, Department of Veterans Affairs.

[FR Doc. 2013-02034 Filed 1-30-13; 8:45 am]

BILLING CODE 8320-01-P